DEPARTMENT OF VETERANS AFFAIRS

[OMB Control No. 2900-NEW]

Agency Information Collection Activity Under OMB Review: Document Evidence Submission

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by January 12, 2026.

ADDRESSES: To submit comments and recommendations for the proposed information collection, please type the following link into your browser: www.reginfo.gov/public/do/PRAMain, select “Currently under Review—Open for Public Comments”, then search the list for the information collection by Title or “OMB Control No. 2900-NEW.”

FOR FURTHER INFORMATION CONTACT: VA PRA information: Dorothy Glasgow, 202-461-1084, VAPRA@va.gov.

SUPPLEMENTARY INFORMATION:

Title: Document Evidence Submission (VA Form 20-10208).

OMB Control Number: 2900-NEW. https://www.reginfo.gov/public/do/PRASearch.

Type of Review: New collection.

Abstract: VA Form 20-10208 (previously under OMB control number 2900-0877) is used by claimants submitting additional evidence or information in support of a claim or used to update information on a claimant's VA account. This proposal requests to assign a new control number and an additional use by a claimant when submitting evidence as part of a pre-discharge claim. Without this information, VA would not be able to efficiently and successfully process and associate evidence or information of record to a claimant's file which could negatively affect adjudication and decisions made by VA.

An agency may not conduct or sponsor, and a person is not required to respond to a collection of information unless it displays a currently valid OMB control number. The Federal Register Notice with a 60-day comment period soliciting comments on this collection of information was published at insert citation date: 90 FR 43511, September 9, 2025.

Affected Public: Individuals or Households.

Estimated Annual Burden: 6,832 hours.

Estimated Average Burden per Respondent: 5 minutes.

Frequency of Response: One time.

Estimated Number of Respondents: 81,981 per year.

Authority: 44 U.S.C. 3501 et seq.

Lanea Haynes,
Acting, VA PRA Clearance Officer, Alt Office of Information Technology, Data Governance Analytics, Department of Veterans Affairs.

[FR Doc. 2025-22687 Filed 12-11-25; 8:45 am]

BILLING CODE 8320-01-P